DEPARTMENT OF THE INTERIOR

National Park Service

[N6363; NPS-WASO-NAGPRA-NPS0040629; PPWOCRADN0-PCU00RP14.R50000]

Notice of Inventory Completion: Autry Museum of the American West, Los Angeles, CA

AGENCY: National Park Service, Interior.

ACTION: Notice.

SUMMARY: In accordance with the Native American Graves Protection and Repatriation Act (NAGPRA), the Autry Museum of the American West has completed an inventory of human remains and associated funerary objects and has determined that there is a cultural affiliation between the human remains and associated funerary objects and Indian Tribes or Native Hawaiian organizations in this notice.

DATES: Repatriation of the human remains and associated funerary objects in this notice may occur on or after August 29, 2025.

ADDRESSES: Send written requests for repatriation of the human remains and associated funerary objects in this notice to Karimah Richardson, Autry Museum of the American West, 4700 Western Heritage Way, Los Angeles, CA 90027, email krichardson@theautry.org.

SUPPLEMENTARY INFORMATION: This notice is published as part of the National Park Service's administrative responsibilities under NAGPRA. The determinations in this notice are the sole responsibility of the Autry Museum of the American West, and additional information on the determinations in this notice, including the results of consultation, can be found in its inventory or related records. The National Park Service is not responsible for the determinations in this notice.

Abstract of Information Available

Human remains representing at least 16 individuals have been identified. The 192 associated funerary objects are 28 potsherds, three debitage, three modified faunal bone fragments, eight shell fragments, eight unmodified granite stones, 83 Olivella disk beads (two burned), four glass trade beads, four historic glass fragments, one bag of red ocher fragments, one ground stone fragment, four metal fragments, 26 faunal fragments, 10 burned faunal bone fragments, one lot of charcoal, one lot of organics, one lot of textile fragments, one lot of potsherds, one mortar fragment, two mortar fragments, one possible metate, and one awl fragment. The human remains and associated funerary objects (498.G.3468) were recovered during the Southwest Museum expedition led by museum archaeologists, William and Elizabeth Campbell, in March 1934, and potentially donated in 1959 to the Southwest Museum (now part of the Autry Museum of the American West). The remains were labeled as “Morongo Valley”. The Campbells only documented two sites in Morongo Valley from the Lower Morongo Valley District which they labeled as site 519 and site 520. Unfortunately, over the decades materials from the two sites have been combined and the remains from both sites are commingled.

Human remains representing at least one individual have been identified. The 88 associated funerary objects are one quartz Humboldt Cluster Point, one burned bone tool, one burned Olivella disc shell bead, two glass trade beads, eight decorated potsherds, 60 plain body potsherds, and 15 plain rim potsherds. Human remains and associated funerary objects (546.G.3-7) were recovered during the Southwest Museum expedition led by museum archaeologist Elizabeth Campbell in 1932 and donated in August 1932 to the Southwest Museum (now part of the Autry Museum of the American West). Records state the remains and associated funerary objects were collected from Section 13, in Lower Morongo Valley, CA.

Cultural Affiliation

Based on the information available and the results of consultation, cultural affiliation is reasonably identified by the geographical location or acquisition history of the human remains and associated funerary objects described in this notice.

Determinations

The Autry Museum of the American West has determined that:

• The human remains described in this notice represent the physical remains of 17 individuals of Native American ancestry.

• The 280 objects described in this notice are reasonably believed to have been placed intentionally with or near individual human remains at the time of death or later as part of the death rite or ceremony.

• There is a connection between the human remains and associated funerary objects described in this notice and the Agua Caliente Band of Cahuilla Indians of the Agua Caliente Indian Reservation, California; Cahuilla Band of Indians; Morongo Band of Mission Indians, California; Ramona Band of Cahuilla, California; Soboba Band of Luiseno Indians, California; and the Yuhaaviatam of San Manuel Nation (previously listed as San Manuel Band of Mission Indians, California).

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after August 29, 2025. If competing requests for repatriation are received, the Autry Museum of the American West must determine the most appropriate requestor prior to repatriation. Requests for joint repatriation of the human remains and associated funerary objects are considered a single request and not competing requests. The Autry Museum of the American West is responsible for sending a copy of this notice to the Indian Tribes and Native Hawaiian organizations identified in this notice.

Authority: Native American Graves Protection and Repatriation Act, 25 U.S.C. 3003, and the implementing regulations, 43 CFR 10.10.

Dated: July 16, 2025.
Mariah Soriano,
Acting Manager, National NAGPRA Program.

[FR Doc. 2025-14365 Filed 7-29-25; 8:45 am]

BILLING CODE 4312-52-P